DEPARTMENT OF DEFENSE

Office of the Secretary

[Transmittal No. 24-77]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-77, Policy Justification, and Sensitivity of Technology.

Dated: November 18, 2025.
Aaron T. Siegel,
Alternate OSD Federal Register Liaison Officer, Department of Defense.

BILLING CODE 6001-FR-P

BILLING CODE 6001-FR-C

Transmittal No. 24-77

Notice of Proposed Issuance of Letter of Offer

Pursuant to Section 36(b)(1)

of the Arms Export Control Act, as amended

(i) Prospective Purchaser: Government of Denmark

(ii) Total Estimated Value:

Major Defense Equipment * | $65 million
Other | $20 million
TOTAL | $85 million

(iii) Description and Quantity or Quantities of Articles or Services under Consideration for Purchase:

Major Defense Equipment (MDE):

Five thousand eight hundred thirty-two (5,832) M1156 Precision Guidance Kits (PGK)

Non-Major Defense Equipment: The following non-MDE items will also be included: ancillary items; compatibility testing; firing tables; technical assistance; technical data; new equipment training; and other related elements of logistics and program support.

(iv) Military Department: Army (DE-B-VMG)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 15, 2024

* as defined in Section 47(6) of the Arms Export Control Act.

POLICY JUSTIFICATION

Denmark—Precision Guidance Kits

The Government of Denmark has requested to buy five thousand eight hundred thirty-two (5,832) M1156 Precision Guidance Kits (PGK). Also included are ancillary items; compatibility testing; firing tables; technical assistance; technical data; new equipment training; and other related elements of logistics and program support. The estimated total cost is $85 million.

This proposed sale will support the foreign policy goals and national security objectives of the United States by improving the security of a NATO Ally that is a force for political stability and economic progress in Europe.

The proposed sale will improve Denmark's capability to meet current and future threats by providing precision capability equipment and will increase first strike accuracy in its brigades. Denmark will have no difficulty absorbing these articles and services into its armed forces.

The proposed sale of this equipment and support will not alter the basic military balance in the region.

The principal contractor will be Northrop Grumman, located in Minneapolis, MN. The purchaser typically requests offsets. Any offset agreement will be defined in negotiations between the purchaser and the contractor.

Implementation of this proposed sale will not require the assignment of any additional U.S. Government or contractor representatives to Denmark.

There will be no adverse impact on U.S. defense readiness as a result of this proposed sale.

Transmittal No. 24-77

Notice of Proposed Issuance of Letter of Offer

Pursuant to Section 36(b)(1)

of the Arms Export Control Act

Annex

Item No. vii

(vii) Sensitivity of Technology:

1. The M1156A1 Precision Guidance Kit (PGK) is a cannon artillery fuze which uses the Global Positioning System (GPS) to increase the delivery accuracy of standard 155mm high explosive ammunition. The NA37 M1156A1 includes M-code capability. It is also a Height of Burst (HOB) fuze, which uses a proximity sensor to cause the round to burst in the air over the enemy, increasing lethality against the target.

2. The highest level of classification of defense articles, components, and services included in this potential sale is SECRET.

3. If a technologically advanced adversary were to obtain knowledge of the specific hardware and software elements, the information could be used to develop countermeasures that might reduce weapon system effectiveness or be used in development of a system with similar or advanced capabilities.

4. A determination has been made that Denmark can provide substantially the same degree of protection for the sensitive technology being released as the U.S. Government. This sale is necessary in the furtherance of the U.S. foreign policy and national security objectives outlined in the Policy Justification.

5. All defense articles and services listed in this transmittal have been authorized for release and export to the Government of Denmark.

[FR Doc. 2025-20424 Filed 11-19-25; 8:45 am]

BILLING CODE 6001-FR-P